NUCLEAR REGULATORY COMMISSION

[NRC-2017-0211]

Standard Review Plan for Spent Fuel Dry Storage Systems and Facilities

AGENCY: Nuclear Regulatory Commission.

ACTION: Draft NUREG; request for comment.

SUMMARY: The U.S. Nuclear Regulatory Commission (NRC) is issuing for public comment a draft NUREG, NUREG-2215, “Standard Review Plan for Spent Fuel Dry Storage Systems and Facilities.” This Standard Review Plan (SRP) provides guidance to the NRC staff for reviewing Safety Analysis Reports (SARs) for (1) a Certificate of Compliance (CoC) for a dry storage system (DSS) for use at a general license facility, and (2) a specific license for a dry storage facility (DSF) that is either an independent spent fuel storage installation (ISFSI) or a monitored retrievable storage installation (MRS). This draft SRP will replace NUREG-1536, “Standard Review Plan for Dry Cask Storage Systems,” NUREG-1567, “Standard Review Plan for Spent Fuel Dry Storage Facilities, and all Interim Staff Guidance (ISGs) that were used to enhance these NUREGs.

DATES: Submit comments by January 2, 2018. Comments received after this date will be considered if it is practical to do so, but the Commission is able to ensure consideration only for comments received before this date.

ADDRESSES: You may submit comments by any of the following methods:

• Federal Rulemaking Web site: Go to http://www.regulations.gov and search for Docket ID NRC-2017-0211. Address questions about NRC dockets to Carol Gallagher; telephone: 301-415-3463; email: Carol.Gallagher@nrc.gov. For technical questions, contact the individual listed in the FOR FURTHER INFORMATION CONTACT section of this document.

• Mail comments to: May Ma, Office of Administration, Mail Stop: OWFN-2-A13, U.S. Nuclear Regulatory Commission, Washington, DC 20555-0001.

For additional direction on obtaining information and submitting comments, see “Obtaining Information and Submitting Comments” in the SUPPLEMENTARY INFORMATION section of this document.

FOR FURTHER INFORMATION CONTACT: Jeremy Smith, Office of Nuclear Material Safety and Safeguards, U.S. Nuclear Regulatory Commission, Washington DC 20555-0001, telephone: 301-415-7308, email: Jeremy.Smith@nrc.gov.

SUPPLEMENTARY INFORMATION:

I. Obtaining Information and Submitting Comments

A. Obtaining Information

Please refer to Docket NRC-2017-0211 when contacting the NRC about the availability of information for this action. You may obtain publicly-available information related to this action by any of the following methods:

• Federal Rulemaking Web site: Go to http://www.regulations.gov and search for Docket ID NRC-2017-0211.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. NUREG-2215, “Standard Review Plan for Spent Fuel Dry Storage Systems and Facilities,” is available in ADAMS under Accession No. ML17310A693.

• NRC's PDR: You may examine and purchase copies of public documents at the NRC's PDR, Room O1-F21, One White Flint North, 11555 Rockville Pike, Rockville, Maryland 20852.

B. Submitting Comments

Please include Docket ID NRC-2017-0211 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The NRC utilizes information that is currently contained in multiple documents (NUREG-1536, NUREG-1567, and numerous ISGs) to assist the NRC staff in its reviews of spent fuel storage applications. The NRC's intent in combining and updating these documents into one document is to assist the NRC staff in its reviews by promoting a consistent regulatory review of a SAR for an ISFSI or a MRS license, or for a CoC; by promoting quality and uniformity of these reviews across each technical discipline; presenting a basis for the review's scope; identifying acceptable approaches to meeting regulatory requirements; and suggesting possible evaluation findings that can be used in the safety evaluation report for applications submitted under part 72 of title 10 of the Code of Federal Regulations.

By this action, the NRC is requesting public comments on draft NUREG-2215. The NRC invites comments on all portions of this SRP that the commenter thinks the NRC should consider. The NRC will make a final determination regarding issuance of the NUREG after it considers any public comments received in response to this request.

Dated at Rockville, Maryland, this 8th day of November 2017.
For the Nuclear Regulatory Commission.
Michael Layton,
Director, Division of Spent Fuel Management, Office of Nuclear Material Safety and Safeguards.

[FR Doc. 2017-24734 Filed 11-14-17; 8:45 am]

BILLING CODE 7590-01-P